DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “Voluntary Customer Survey Generic Clearance for the Agency for Healthcare Research and Quality.” In accordance with the Paperwork Reduction Act, 44 U.S.C. 3501-3520, AHRQ invites the public to comment on this proposed information collection.

DATES: Comments on this notice must be received by July 28, 2014.

ADDRESSES: Written comments should be submitted to: Doris Lefkowitz, Reports Clearance Officer, AHRQ, by email at doris.letkowitz@AHRQ.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@AHRQ.hhs.gov.

SUPPLEMENTARY INFORMATION:

Proposed Project

Voluntary Customer Survey Generic Clearance for the Agency for Healthcare Research and Quality

This is a request for the Office of Management and Budget (OMB) to re-approve for an additional 3 years, under the Paperwork Reduction Act of 1995, the generic clearance for the Agency for Healthcare Research and Quality (AHRQ) to survey the users of AHRQ's work products and services, OMB control number 0935-0106. The current clearance was approved on July 20th, 2011 and will expire on July 31st, 2014.

Customer surveys will be undertaken by AHRQ to assess its work products and services provided to its customers, to identify problem areas, and to determine how they can be improved. Surveys conducted under this generic clearance are not required by regulation and will not be used by AHRQ to regulate or sanction its customers. Surveys will be entirely voluntary, and information provided by respondents will be combined and summarized so that no individually identifiable information will be released. Proposed information collections submitted under this generic clearance will be reviewed and acted upon by OMB within 14 days of submission to OMB.

Method of Collection

The information collected through focus groups and voluntary customer surveys will be used by AHRQ to identify strengths and weaknesses in products and services to make improvements that are practical and feasible. Information from these customer surveys will be used to plan and redirect resources and efforts to improve or maintain a high quality of service to the lay and health professional public.

Estimated Annual Respondent Burden

Exhibit 1 shows the estimated total burden hours for the respondents. Mail surveys are estimated to average 15 minutes, telephone surveys 40 minutes, web-based surveys 10 minutes, focus groups two hours, and in-person interviews are estimated to average 50 minutes. Mail surveys may also be sent to respondents via email, and may include a telephone non-response follow-up. Telephone non-response follow-up for mailed surveys does not count as a telephone survey. The total burden hours for the 3 years of the clearance is estimated to be 10,150 hours.

Exhibit 2 shows the estimated cost burden for the respondents. The total cost burden for the 3 years of the clearance is estimated to be $340,127.

Exhibit 1—Estimated Burden Hours Over 3 Years
Type of information collection | Number of respondents | Number of responses per respondent | Hours per response | Total burden hours
Mail/email * | 15,000 | 1 | 15/60 | 3,750
Telephone | 600 | 1 | 40/60 | 400
Web-based | 15,000 | 1 | 10/60 | 2,500
Focus Groups | 1,500 | 1 | 2.0 | 3,000
In-person | 600 | 1 | 50/60 | 500
Total | 32,700 | na | na | 10,150
* May include telephone non-response follow-up in which case the burden will not change.

Exhibit 2—Estimated Cost Burden Over 3 Years
Type of information collection | Number of respondents | Total burden hours | Average hourly wage rate * | Total cost burden
Mail/email | 15,000 | 3,750 | $33.51 | $25,663
Telephone | 600 | 400 | 33.51 | 3,404
Web-based | 15,000 | 2,500 | 33.51 | 83,775
Focus Groups | 1,500 | 3,000 | 33.51 | 100,530
In-person | 600 | 500 | 33.51 | 16,755
Total | 32,700 | 10,150 | na | 340,127
* Based upon the average wages for 29-000 (Healthcare Practitioner “National Compensation Survey: Occupational Wages in the United States, May 2009,” U.S. Department of Labor, Bureau of Labor Statistics.

Request for Comments

In accordance with the Paperwork Reduction Act, comments on AHRQ's information collection are requested with regard to any of the following: (a) Whether the proposed collection of information is necessary for the proper performance of AHRQ healthcare research and healthcare information dissemination functions, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: May 21, 2014.
Richard Kronick,
Director.

[FR Doc. 2014-12360 Filed 5-28-14; 8:45 am]

BILLING CODE 4160-90-M